DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than June 3, 2016.

Interested persons are invited to submit written comments regarding the subject matter of the investigations to the Director, Office of Trade Adjustment Assistance, at the address shown below, not later than June 3, 2016. The petitions filed in this case are available for inspection at the Office of the Director, Office of Trade Adjustment Assistance, Employment and Training Administration, U.S. Department of Labor, Room N-5428, 200 Constitution Avenue NW., Washington, DC 20210.

Signed at Washington, DC, this 2nd day of May 2016.
Jessica R. Webster,
Certifying Officer, Office of Trade Adjustment Assistance.

Appendix
[127 TAA petitions instituted between 3/28/16 and 4/29/16]
TA-W | Subject firm (petitioners) | Location | Date of institution | Date of petition
91632 | Sanofi-aventis, US LLC (Company) | Kansas City, MO | 03/28/16 | 03/25/16
91633 | Maersk Agency USA, Inc. (Company) | Charlotte, NC | 03/28/16 | 03/25/16
91634 | Caterpillar (State/One-Stop) | Santa Fe, NM | 03/29/16 | 03/28/16
91635 | Emerson Process Management, Rosemount Inc. (State/One-Stop) | Eden Prairie, MN | 03/29/16 | 03/28/16
91636 | Alorica (State/One-Stop) | Albuquerque, NM | 03/29/16 | 03/28/16
91637 | Georgia Chair Company (Company) | Gainesville, GA | 03/29/16 | 03/28/16
91638 | EMC Corporation (State/One-Stop) | Hopkinton, MA | 03/29/16 | 03/29/16
91639 | FMC Measurement Solutions (Workers) | Erie, PA | 03/30/16 | 03/29/16
91640 | NCS Pearson Inc. (State/One-Stop) | Boomington, MN | 03/30/16 | 03/29/16
91641 | General Electric (GE) (State/One-Stop) | Fort Edward, NY | 03/30/16 | 03/29/16
91642 | Wells Fargo and Company c/o Barnett Associates, Inc. (Workers) | Diamond Bar, CA | 03/30/16 | 03/29/16
91643 | Ethnotek (State/One-Stop) | Eagan, MN | 03/30/16 | 03/29/16
91644 | Qualcomm (Workers) | San Diego, CA | 03/30/16 | 03/18/16
91645 | ITT Cannon, LLC (State/One-Stop) | Santa Ana, CA | 03/31/16 | 03/30/16
91646 | Matrox International Ltd. (State/One-Stop) | Plattsburgh, NY | 03/31/16 | 03/30/16
91647 | Ingersoll Rand Engineered Centrifugal Compression (Union) | Buffalo, NY | 03/31/16 | 03/28/16
91648 | Ciena Corporation (C3) (Workers) | Linthicum, MD | 03/31/16 | 03/29/16
91649 | Vigo Coal Company (Workers) | Mt. Carmel, IL | 03/31/16 | 03/22/16
91650 | LCC International, Inc. Subsidiary of Tech Mahindra (State/One-Stop) | Overland Park, KS | 04/01/16 | 03/31/15
91651 | DME Co., LLC, A Subsidiary of Milacron, LLC (Workers) | Madison Heights, MI | 04/01/16 | 03/31/16
91652 | Mary's River Lumber Company (State/One-Stop) | Corvallis, OR | 04/01/16 | 03/31/16
91653 | Royal Ingredients, LLC (State/One-Stop) | Swedesboro, NJ | 04/01/16 | 03/31/16
91654 | WKW Roof Rail Systems (Company) | Battle Creek, MI | 04/01/16 | 03/31/16
91655 | Baker Hughes—Wireline Services US Land—Southern Geomarket (State/One-Stop) | Victoria, TX | 04/04/16 | 04/01/16
91656 | SL Montevideo Technology, Inc. (State/One-Stop) | Montevideo, MN | 04/04/16 | 04/01/16
91657 | Hewlett Packard Enterprises (Workers) | Tulsa, OK | 04/04/16 | 04/01/16
91658 | Coyne International Enterprises Corp. (State/One-Stop) | Syracuse, NY | 04/04/16 | 04/01/16
91659 | Whiting Paper Company (Union) | Menasha, WI | 04/04/16 | 04/01/16
91660 | FirstSource Solutions (State/One-Stop) | Louisville, KY | 04/04/16 | 04/01/16
91661 | E.W. Bowman, Inc. (Workers) | Uniontown, PA | 04/05/16 | 04/04/16
91662 | Alcoa-Howmet Corporation (Union) | Whitehall, MI | 04/05/16 | 04/04/16
91663 | Mississippi Tank Co. (Workers) | Vincennes, IN | 04/05/16 | 04/04/16
91664 | Noranda Aluminium Holding Corporation (State/One-Stop) | New Madrid, MO | 04/05/16 | 04/04/16
91665 | BT Americas (State/One-Stop) | New York, NY | 04/06/16 | 04/04/16
91666 | Haymarket Media (State/One-Stop) | York, PA | 04/06/16 | 04/05/16
91667 | Standard Motor Products, Inc., Temperature Control Div. (Company) | Grapevine, TX | 04/06/16 | 04/05/16
91668 | Cengage Learning, Inc., Custom Production Division (State/One-Stop) | Mason, OH | 04/06/16 | 04/05/16
91669 | Universal Oil Products (State/One-Stop) | Des Plaines, IL | 04/06/16 | 04/05/16
91670 | LPL Financial LLC (State/One-Stop) | San Diego, CA | 04/07/16 | 04/06/16
91671 | DB SCHENKER (Workers) | El Paso, TX | 04/07/16 | 04/06/16
91672 | Connor Manufacturing Services (State/One-Stop) | Fairview, OR | 04/07/16 | 04/06/16
91673 | Climax Manufacturing Co. (Union) | Lowville, NY | 04/07/16 | 04/06/16
91674 | Xerox (State/One-Stop) | Cherry Hill, NJ | 04/08/16 | 04/06/16
91675 | Toys R Us (State/One-Stop) | Wayne, NJ | 04/08/16 | 04/06/16
91676 | Talentwise, a Sterling Backcheck Company (Company) | Winchester, VA | 04/08/16 | 04/06/16
91677 | Vam USA (Company) | Houston, TX | 04/08/16 | 04/01/16
91678 | GE Oil and Gas (Company) | Avon, MA | 04/11/16 | 04/05/16
91679 | Alleson Athletic (State/One-Stop) | Rochester, NY | 04/11/16 | 04/08/16
91680 | Ketchum, Inc. (Company) | Pittsburgh, PA | 04/11/16 | 04/08/16
91681 | Mikco Manufacturing Technology Inc. (State/One-Stop) | Wallingford, CT | 04/11/16 | 04/08/16
91682 | Recreational Equipment Inc. (REI) (Workers) | Kent, WA | 04/11/16 | 04/09/16
91683 | Pride of The Hills Manufacturing Inc. (Workers) | Killbuck, OH | 04/12/16 | 04/11/16
91684 | Abbott Laboratories (Workers) | Abbott Park, IL | 04/12/16 | 04/11/16
91685 | Sulzer Pumps (US) Inc/Sulzer Bingham Pumps (State/One-Stop) | Portland, OR | 04/12/16 | 04/11/16
91686 | Custom Stamping & MFG. Co. (State/One-Stop) | Portland, OR | 04/12/16 | 04/11/16
91687 | D&L Oil Tools (Workers) | Tulsa, OK | 04/13/16 | 04/04/16
91688 | Ceres Crystal Industries Inc. (Workers) | Niagara Falls, NY | 04/13/16 | 04/06/16
91689 | Warm Springs Forest Products (State/One-Stop) | Warm Springs, OR | 04/13/16 | 04/12/16
91690 | MEMC Pasadena Inc. a subsidiary of Sun Edison (Workers) | Pasadena, TX | 04/13/16 | 03/22/16
91691 | SunEdison (State/One-Stop) | Pasadena, TX | 04/13/16 | 04/12/16
91692 | Superior Graphite Company (State/One-Stop) | Russellville, AR | 04/13/16 | 04/12/16
91693 | Hudson Jeans (State/One-Stop) | Commerce, CA | 04/13/16 | 04/12/16
91694 | Transtector Systems (Company) | Hayden, ID | 04/13/16 | 04/12/16
91695 | Galey and Lord (Company) | Society Hill, SC | 04/13/16 | 04/12/16
91696 | Jasper Engineering & Equipment (State/One-Stop) | Hibbing, MN | 04/14/16 | 04/13/16
91697 | Oracle (State/One-Stop) | Denver, CO | 04/14/16 | 04/13/16
91698 | Texas & Northern Railway Company (Workers) | Lonestar, TX | 04/14/16 | 04/13/16
91699 | Hexcel Corporation (Union) | Kent, WA | 04/14/16 | 04/12/16
91700 | Manitowoc FS6 Operations, LLC (Union) | Manitowoc, WI | 04/14/16 | 04/04/16
91701 | Clover Technologies Group LLC (State/One-Stop) | Ithaca, MI | 04/14/16 | 04/11/16
91702 | Trillium Staffing Agency (State/One-Stop) | East Tawas, MI | 04/14/16 | 04/13/16
91703 | Polar Tank Trailer (State/One-Stop) | Springfield, MO | 04/14/16 | 04/13/16
91704 | ITT Cannon (State/One-Stop) | Santa Ana, CA | 04/15/16 | 04/14/16
91705 | D+H USA Corp/Harland Financial Solutions Inc. (State/One-Stop) | Portland, OR | 04/15/16 | 04/14/16
91706 | General Fasteners (State/One-Stop) | Riverton, IA | 04/15/16 | 04/14/16
91707 | Hewlett Packard Enterprise, ES ITO Network Delivery (State/One-Stop) | Plano, TX | 04/15/16 | 04/14/16
91708 | Cambridge Metals & Plastics, A Division of Water Works Manufacturing (State/One-Stop) | Cambridge, MN | 04/15/16 | 04/14/16
91709 | Avery Dennison (State/One-Stop) | Chicopee, MA | 04/15/16 | 04/15/16
91710 | Honeywell Inc. (Union) | Danville, IL | 04/18/16 | 04/18/16
91711 | Broadcom Ltd. (was known as Avago Technologies) (State/One-Stop) | Norcross, CO | 04/18/16 | 04/15/16
91712 | EVRAZ Rocky Mountain Steel (Company) | Pueblo, CO | 04/18/16 | 04/15/16
91713 | Roseburg Forest Products (Union) | Medford, OR | 04/18/16 | 04/15/16
91714 | United Technologies Electronic Controls, Inc. (Company) | Huntington, IN | 04/20/16 | 04/19/16
91715 | AECOM (State/One-Stop) | Boise, ID | 04/20/16 | 04/19/16
91716 | Trican Well Services (State/One-Stop) | Odessa, TX | 04/20/16 | 04/19/16
91717 | 3M (Company) | Milford, OH | 04/20/16 | 04/20/16
91718 | ITW Medical—Coeur Inc. (Workers) | Sheboygan, WI | 04/20/16 | 04/18/16
91719 | American Light Bulb MFG. (Company) | Mullins, SC | 04/21/16 | 04/21/16
91720 | Caterpillar Inc. Danville (Company) | Danville, KY | 04/21/16 | 02/15/16
91721 | YellowPages Group/Yellow Pages Digital & Media Solution LLC (Workers) | Indianapolis, IN | 04/22/16 | 04/22/16
91722 | Labinal Power Systems a subsidiary of Safran (State/One-Stop) | Everett, WA | 04/22/16 | 04/20/16
91723 | AVX Corporation (Company) | Olean, NY | 04/22/16 | 04/21/16
91724 | Newpark Drilling Fluids LLC (State/One-Stop) | Katy, TX | 04/22/16 | 04/21/16
91725 | GE Transportation (Union) | Erie, PA | 04/22/16 | 04/21/16
91726 | Chemtrade Performance Chemicals LLC (Company) | Kalama, WA | 04/22/16 | 04/21/16
91727 | Cargill (State/One-Stop) | Hopkins, MN | 04/22/16 | 04/21/16
91728 | Bank of America (State/One-Stop) | Chandler, AZ | 04/22/16 | 04/21/16
91729 | ACI Worldwide, Inc. (State/One-Stop) | Elkhorn, NE | 04/25/16 | 04/22/16
91730 | Assembled Products (State/One-Stop) | Buffalo Grove, IL | 04/25/16 | 04/22/16
91731 | Bank of America Corporation (Workers) | Simi Valley, CA | 04/25/16 | 04/22/16
91732 | Sandvik (State/One-Stop) | Brooklyn Center, MN | 04/25/16 | 04/22/16
91733 | H.C. Haynes Inc. (State/One-Stop) | Winn, ME | 04/26/16 | 04/26/16
91734 | Ralph Lauren Corp (Workers) | Greensboro, NC | 04/26/16 | 04/26/16
91735 | Parker Hannifin Corp.—Hose Division (State/One-Stop) | Deerwood, MN | 04/26/16 | 04/25/16
91736 | The Timken Company Altavista Bearing Plant (Workers) | Altavista, VA | 04/26/16 | 04/18/16
91737 | Alex Apparel Group, Inc. (Workers) | New York, NY | 04/26/16 | 04/25/16
91738 | IBM Global Technology Services (State/One-Stop) | Poughkeepsie, NY | 04/27/16 | 04/22/16
91739 | L.S. Starrett Company (Company) | Mt. Airy, NC | 04/27/16 | 04/22/16
91740 | Xerox Opb (State/One-Stop) | Wilsonville, OR | 04/27/16 | 04/22/16
91741 | Precision Computer Services (PCS) (State/One-Stop) | Shelton, CT | 04/27/16 | 04/22/16
91742 | General Electric (GE) (Union) | Ft. Edward, NY | 04/27/16 | 04/22/16
91743 | Datex-Ohmeda, Inc. DBA—GE Healthcare (Union) | Madison, WI | 04/27/16 | 04/26/16
91744 | Valspar Corp—Plastikote (Workers) | Medina, OH | 04/27/16 | 04/26/16
91745 | Devon Energy (State/One-Stop) | Oklahoma City, OK | 04/27/16 | 04/26/16
91746 | PetroChoice (State/One-Stop) | Chisholm, MN | 04/27/16 | 04/26/16
91747 | Beitzel Corportation/Pillar Innovation (State/One-Stop) | Grantsville, MD | 04/28/16 | 04/27/16
91748 | Dana Holding Corporation (Union) | Glasgow, KY | 04/28/16 | 04/27/16
91749 | Premise Health (State/One-Stop) | Brentwood, TN | 04/28/16 | 04/27/16
91750 | NW Signal Traffic/Signal Group/Peek Traffic (State/One-Stop) | Tualatin, OR | 04/28/16 | 04/27/16
91751 | KeyTronicEMS (Company) | Harrodsburg, KY | 04/28/16 | 04/27/16
91752 | The State Newspaper (Owned by The McClatchy Company) (Workers) | Columbia, SC | 04/28/16 | 04/27/16
91753 | Epicor Software Corporation (State/One-Stop) | Hyannis, MA & Austin, TX | 04/28/16 | 04/27/16
91754 | QBE North America (State/One-Stop) | Bellevue, WA | 04/28/16 | 04/27/16
91755 | Kraft-Heinz (Workers) | Allentown, PA | 04/29/16 | 04/28/16
91756 | Schlumberger Technology Corporation (Workers) | Bakersfield, CA | 04/29/16 | 04/28/16
91757 | Lewis Bakery (Union) | Vincennes, IN | 04/29/16 | 04/28/16
91758 | Hawaiian Commercial & Sugar Company (HC&S) (Union) | Puunene, HI | 04/29/16 | 04/26/16

[FR Doc. 2016-12092 Filed 5-23-16; 8:45 am]

BILLING CODE 4510-FN-P